NUCLEAR REGULATORY COMMISSION

[Docket No. 40-8943-MLA-2; ASLBP No. 13-926-01-MLA-BD01]

Atomic Safety and Licensing Board Panel

Before the Licensing Board: G. Paul Bollwerk, III, Chairman, Dr. Richard E. Wardwell, Dr. Thomas J. Hirons; In the Matter of: Crow Butte Resources, Inc. (Marsland Expansion Area); Amended Notice of Hearing (Confirming Oral Limited Appearance Session and Updating Start Time for Evidentiary Hearing).

October 18, 2018.

On July 27, 2018, the Atomic Safety and Licensing Board issued a Notice of Hearing, which was subsequently published in the Federal Register, indicating that it would convene an evidentiary hearing and potentially conduct a 10 CFR 2.315(a) oral limited appearance session in connection with this proceeding regarding intervenor Oglala Sioux Tribe's challenge to the May 2012 application of Crow Butte Resources, Inc., (CBR) seeking to amend the existing 10 CFR part 40 source materials license for its Crow Butte in situ uranium recovery (ISR) site to authorize CBR to operate a satellite ISR facility within the Marsland Expansion Area in Dawes County, Nebraska. See Notice of Hearing (Notice of Evidentiary Hearing and Opportunity To Provide Oral, Written, and Audio-Recorded Limited Appearance Statements); In the Matter of Crow Butte Resources, Inc. (Marsland Expansion Area), 83 FR 37828, 37828-30 (Aug. 2, 2018). Revisions to the information in that notice regarding the oral limited appearance session and the start time for the evidentiary hearing are set forth below.

A. Confirming Oral Limited Appearance Session Will Be Held

In the notice's section E, “Submitting a Request to Make an Oral Limited Appearance Statement,” the Board indicated that it was accepting requests to make an oral limited appearance during a scheduled Sunday, October 28, 2018 session to be held from 2:00 p.m. to 4:00 p.m. Mountain Time (MT) at the Scottsbluff Room, Chadron State College Student Center, 1000 Main Street, Chadron, Nebraska. In addition, the Board stated it was reserving the right to cancel that session if by mid-October 2018 sufficient expressions of interest from the public had not been received. The Board wishes to confirm that, because a sufficient number of written requests to make an oral statement have been received, the oral limited appearance session will be conducted as scheduled.

In addition, the Board encourages anyone interested in making an oral limited appearance statement at the October 28, 2018 session to provide a written request to do so. Those submitting a timely written request to make an oral statement, i.e., a request received by 5:00 p.m. Eastern Time (ET) on Friday, October 26, 2018, will be given priority over those who have not provided such a request.

Written requests to make an oral statement should be submitted to: Mail: Administrative Judge G. Paul Bollwerk, III, Atomic Safety and Licensing Board Panel, Mail Stop T-3A02, U.S. Nuclear Regulatory Commission, Washington, DC 20555-0001; Fax: (301) 415-5206 (verification (301) 415-5277); Email: paul.bollwerk@nrc.gov and sarah.ladin@nrc.gov.

B. Evidentiary Hearing Start Time

In section B of the notice, the Board indicated that the evidentiary hearing would convene at 8:30 a.m. MT on Tuesday, October 30, 2018. As a result of recent developments concerning witness availability, see Licensing Board Memorandum and Order (Scheduling Prehearing Conference and Providing Teleconference Agenda and Hearing Presentation Order) (Oct. 3, 2018) at 4 & n.2 (unpublished), the Board has decided to begin the hearing one-half hour earlier, i.e., at 8:00 a.m. MT on October 30, 2018. The hearing location at the Crawford Community Building, 1005 1st Street, Crawford, Nebraska, remains the same.

Although the start times for the additional two days that the hearing currently is anticipated to last will be set by the Board based on the progress of the proceeding, if the Board decides to start the hearing at a time other than 8:00 a.m. MT on any given day, it will provide an information update that will be available by 6:00 a.m. MT on that day by calling (800) 368-5642, extension 5036 (available between 7:00 a.m. and 9:00 p.m. ET, Monday through Friday, except federal holidays), or by calling (301) 415-5036 (available seven days a week, twenty-four hours a day).

It is so ordered.

For the Atomic Safety and Licensing Board.
Dated: Rockville, Maryland, October 18, 2018.
George P. Bollwerk III,
Chairman, Administrative Judge.

[FR Doc. 2018-23085 Filed 10-22-18; 8:45 am]

BILLING CODE 7590-01-P